NATIONAL ARCHIVES AND RECORDS ADMINISTRATION

[NARA-2017-063]

Agency Information Collection Activities: Submission for OMB Review; Comment Request

AGENCY: National Archives and Records Administration (NARA).

ACTION: Notice.

SUMMARY: NARA is giving notice that it has submitted to OMB for approval the information collection described in this notice. We invite you to comment on the proposed information collection pursuant to the Paperwork Reduction Act of 1995.

DATES: OMB must receive written comments at the address below on or before October 12, 2017.

ADDRESSES: Send comments to Mr. Nicholas A. Fraser, desk officer for NARA, by mail to Office of Management and Budget; New Executive Office Building; Washington, DC 20503; by fax to 202-395-5167; or by email to Nicholas_A._Fraser@omb.eop.gov.

FOR FURTHER INFORMATION CONTACT: Direct requests for additional information or copies of the proposed information collection and supporting statement to Tamee Fechhelm by phone at 301-837-1694 or by fax at 301-837-0319.

SUPPLEMENTARY INFORMATION:

Information Collection Process

Pursuant to the Paperwork Reduction Act of 1995 (Pub. L. 104-13), we invite the public and other Federal agencies to comment on information collections we propose to renew. We submit proposals to renew information collections first through a public comment period and then to OMB for review and approval pursuant to the Paperwork Reduction Act of 1995 (PRA; 44 U.S.C. 3501 et seq.). We published a notice of proposed renewal for this information collection on June 14, 2017 (82 FR 27289), and we received no comments. We have therefore submitted the described information collection to OMB for approval.

Request for Comments

We invite comments on: (a) Whether collecting this information is necessary for proper performance of the agency's functions, including whether the information will have practical utility; (b) the accuracy of our estimate of the information collection's burden on respondents; (c) ways to enhance the quality, utility, and clarity of the information we propose to collect; (d) ways to minimize the burden on respondents of collecting the information, including through the use of automated collection techniques or other forms of information technology; and (e) estimates of capital or start-up costs and costs of operation, maintenance, and purchase of services to provide information. Burden means the total time, effort, or financial resources people need to provide the information, including time to review instructions, process and maintain the information, search data sources, and respond.

Specifics on This Information Collection

Title: NARA Visitors Study.

OMB number: 3095-0067.

Agency form number: N/A.

Abstract: The general purpose of this voluntary data collection is to benchmark the performance of NARA in relation to other history museums. Information collected from visitors will assess the overall impact, expectations, presentation, logistics, motivation, demographic profile and learning experience. Once analysis has been done, this collected information will assist NARA in determining their success in achieving its goals.

Type of review: Regular.

Affected public: Individuals who visit the National Archives Museum in Washington, DC.

Estimated number of respondents: 200.

Estimated time per response: 12 minutes.

Frequency of response: On occasion (when an individual visits the National Archives Museum in Washington, DC between July-October 2018 and July-October 2020).

Estimated total annual burden hours: 40 hours.

Swarnali Haldar,
Executive for Information Services/CIO.

[FR Doc. 2017-19331 Filed 9-11-17; 8:45 am]

BILLING CODE 7515-01-P